DEPARTMENT OF COMMERCE

National Oceanic and Atmospheric Administration

RIN 0648-XS86

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will convene a meeting of the Red Snapper Advisory Panel.

DATES: The meeting will convene at 1 p.m. on Tuesday, December 1, 2009 and conclude by 3 p.m. on Wednesday, December 2, 2009. The meeting will be webcast over the internet. A link to the webcast will be available on the Council's web site, http://www.gulfcouncil.org.

ADDRESSES: The meeting will be held at the Hilton, 901 Airline Drive, Kenner, LA 70062.

Council address: Gulf of Mexico Fishery Management Council, 2203 N. Lois Avenue, Suite 1100, Tampa, FL 33607.

FOR FURTHER INFORMATION CONTACT: Dr. Carrie Simmons, Fishery Biologist; Gulf of Mexico Fishery Management Council; telephone: (813) 348-1630.

SUPPLEMENTARY INFORMATION: On the first day of the meeting, the Standing and Special Reef Fish Scientific and Statistical Committees and the Red Snapper Advisory Panel will meet jointly to hear a presentation on the update stock assessment for red snapper. Following the presentation, Special Reef Fish Scientific and Statistical Committees and the Red Snapper Advisory Panel will reconvene separately to continue any discussion of the update stock assessment and make any management recommendations. Other issues on the agenda include: red snapper season openings and closings, settlements for recreational fishing violations, and potential donation of seized catches. There will also be election of a chair and vice-chair. The comments and recommendations made by the Red Snapper Advisory Panel will be presented to the Council at its February 1 - 4, 2010 meeting in Mobile, AL.

Copies of the agenda and other related materials can be obtained by calling (813) 348-1630 or can be downloaded from the Council's ftp site, ftp.gulfcouncil.org.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Tina O'Hern at the Council (see ADDRESSES) at least 5 working days prior to the meeting.

Dated: November 9, 2009.
Tracey L. Thompson,
Acting Director, Office of Sustainable Fisheries, National Marine Fisheries Service.

[FR Doc. E9-27267 Filed 11-12-09; 8:45 am]

BILLING CODE 3510-22-S